DELAWARE RIVER BASIN COMMISSION

Notice of Commission Meeting and Public Hearing

Notice is hereby given that the Delaware River Basin Commission will hold an informal conference followed by a public hearing on Wednesday, May 14, 2008. The hearing will be part of the Commission's regular business meeting. Both the conference session and business meeting are open to the public and will be held at the Independence Seaport Museum at Penn's Landing, 211 South Columbus Boulevard and Walnut Street, Philadelphia, Pennsylvania.

The conference among the commissioners and staff will begin at 10:30 a.m. Topics of discussion will include: Update on a request for proposal for the Reassessment Study to be undertaken in accordance with the Decree Parties' Agreement of September 26, 2007; and presentation by Lori Dillard Rech, President of the Independence Seaport Museum. Because of the large number of dockets scheduled for public hearing on May 14, in a departure from the customary schedule, the portion of the business meeting consisting of the hearing on Project Review applications will be held at approximately 11:15 a.m., immediately following the morning conference session. At the conclusion of the hearing on Project Review applications, there will be a break for lunch. The business meeting will resume at 1:30 p.m.

1. Valley Township D-88-31 CP-3. An application for the renewal of a ground water withdrawal project to continue withdrawal of 4.5 million gallons per thirty days (mg/30 days) to supply the applicant's public water supply distribution system from existing Wells Nos. V1, V2 and V4. The project is located in the Precambrian Gabbroic Gneiss Formation in the Brandywine Creek Watershed in Valley Township, Chester County, Pennsylvania.

2. Monroe Township Municipal Utilities Authority D-93-9 CP-2. An application for the renewal of a ground water withdrawal project to continue withdrawal of 25.92 mg/30 days from existing Wells Nos. 9 and 10 to supply the portion of the applicant's public water supply distribution system that is located in the Delaware River Basin. The project is located in the Kirkwood Cohansey Aquifer in the Scotland Run Watershed in Monroe Township, Gloucester County, New Jersey, in New Jersey Critical Water Supply Area 2.

3. Borough of Milford D-68-100 CP-2. An application to upgrade the applicant's wastewater treatment plant (WWTP) to provide improved nutrient removal. No increase in the approved 0.4 mgd WWTP capacity is proposed. The project is located off Carpenter Street in Milford Borough, Hunterdon County, New Jersey and discharges to Spring Mills Creek, approximately 0.1 mile upstream from its confluence with Lower Delaware River Special Protection Waters. The project is also within the Lower Delaware River Management Plan area. The WWTP will continue to serve a portion of Holland Township and Milford Borough, both in Hunterdon County, New Jersey.

4. Siemens Healthcare Diagnostics D-70-86-2. An application for the renewal of a ground water withdrawal project to increase withdrawal from 8.64 mg/30 days to 12.08 mg/30 days to supply the applicant's manufacturing facility from existing Well No. 4 and to decrease the total system allocation from 15.12 mg/30 days to 12.1 mg/30 days in the Columbia Formation. The project is located in the C & D Canal and the Red Lion Creek watersheds in the City of Newark, New Castle County, Delaware.

5. Aqua New Jersey, Inc. D-77-49-2. An application for approval of a ground water withdrawal project to supply up to 8.6 mg/30 days of water to the applicant's Warren Glen, Riegel Ridge and Fox Hollow distribution systems from new Wells Nos. 4, 5, 6 and 7, which represents an increase in the existing withdrawal 5.6 mg/30 days to 8.6 mg/30 days. The increased allocation is requested in order to meet projected increases in service area demand. The project is located in the Leithsville Formation in the Musconetcong and Delaware River Watersheds in Holland Township, Hunterdon County and Pohatcong Township, Warren County, New Jersey. This withdrawal project is located within the drainage area to the section of the non-tidal Delaware River known as the Lower Delaware, which is classified as Special Protection Waters.

6. Upper Gwynedd Township D-91-88 CP-4. An application for approval of the addition of an effluent filter on the Upper Gwynedd Township WWTP. The WWTP's average annual flow of 5.7 mgd will not change. The WWTP will continue to discharge to the Wissahickon Creek, a tributary of the Schuylkill River. The facility is located in Upper Gwynedd Township, Montgomery County, Pennsylvania.

7. Township of Pemberton D-92-56 CP-3. An application for the renewal of a ground water withdrawal project to increase withdrawal from 38.75 mg/30 days to 58 mg/30 days to supply the applicant's public water supply distribution system from existing Wells Nos. 4, 6, 7, 8A and 11 and new Wells Nos. 1, 2 and 13 in the Mt. Laurel/Wenonah and Englishtown Formations. The increased allocation is requested in order to meet projected increases in service area demand. The project is located in the Rancocas Creek Watershed in Pemberton Township, Burlington County, New Jersey.

8. The Premcor Refining Group, Inc. D-93-4-6. An application to replace the withdrawal of water from Wells Nos. P-3A and P-4A in the applicant's water supply system that have become unreliable sources of supply and to increase the applicant's surface water withdrawal from the Delaware River and Red Lion Creek. Premcor requests that its combined withdrawal from replacement Wells Nos. P-3B and P-4B and seven existing wells remain limited to 180 mg/30 days; that its withdrawal from the Delaware River intake remain at 13,560 mg/30 days; that the docket authorize withdrawals of 38.9 mg/30 days from the Red Lion Creek intake and up to 56.2 mg/30 days from the Dragon Run intake, and that Premcor's combined withdrawal from all sources be limited to 13,835.1 mg/30 days. The proposed allocation represents no increase in groundwater withdrawals, no increase from the Delaware River intake and the inclusion in a DRBC docket of previously un-docketed pre-Compact DNREC allocations from Dragon Run and Red Lion Creek. The project is located in the Potomac Formation in the C&D Canal East, Dragon Run Creek, Red Lion Creek and Delaware River watersheds in Delaware City, New Castle County, Delaware.

9. AES Ironwood, LLC D-97-45-2. An application for the renewal of a surface water withdrawal project to increase the applicant's withdrawal from 64.8 mg/30 days to 70.2 mg/30 days to supply the applicant's power generation facility. The withdrawal is made via the diversion of a portion of an existing quarry discharge to Tulpehocken Creek within the Schuylkill River Watershed, and the diversion of a portion of the City of Lebanon sewage treatment plant wastewater discharge to Quittapahila Creek, which is located in the Susquehanna River Basin. The portion of the withdrawal diverted from the City of Lebanon treatment plant discharge constitutes an inter-basin transfer. The project is located in South Lebanon Township in Lebanon County, Pennsylvania.

10. Milford Valley Convalescent Home D-98-51-2. An application to modify an existing 0.015 mgd WWTP with the addition of a prefabricated equalization tank. The WWTP will continue to serve the Milford Valley Convalescent Home, located in Westfall Township, Pike County, Pennsylvania. The WWTP discharges to the section of the non-tidal Delaware River known as the Middle Delaware, which is designated as Special Protection Waters.

11. Penn Estate Utilities D-99-20-2. An application for approval of the addition of a denitrification filter on the Penn Estates Utilities WWTP. The existing design flow of 0.56 mgd will not change as a result of this project. The WWTP will continue to discharge to Cranberry Creek, a tributary of the Brodhead Creek, which is a tributary of the section of the non-tidal Delaware River known as the Middle Delaware. The Middle Delaware is designated as Special Protection Waters. The facility is located in Stroud Township, Monroe County, Pennsylvania.

12. Sussex County Municipal Utilities Authority D-2006-6 CP-2. An application requesting approval for an increase in the average monthly Total Dissolved Solids (TDS) effluent limit for the docket holder's Hampton Commons WWTP. The request is to increase the average monthly limit from 1,000 milligrams per liter (mg/l) to 1,500 mg/l. The 50,000 gallons per day (gpd) Hampton Commons WWTP discharges to Marsh's Farm Creek, a tributary to the Paulins Kill River. The facility is located in Hampton Township, Sussex County, New Jersey, within the drainage area of the non-tidal Delaware River known as the Lower Delaware, which is designated as Special Protection Waters.

13. Whitemarsh Township D-93-37 CP-2. An application for the approval of modifications to an existing but previously undocketed WWTP that will continue to serve a portion of Whitemarsh Township. The project involves replacing the original process equipment with new equipment. The 2.0 mgd WWTP will continue to provide secondary biological treatment via the trickling filter process and will continue to discharge to an unnamed tributary of the Schuylkill River. The facility is located in Whitemarsh Township, Montgomery County, Pennsylvania.

14. Valero Paulsboro Refinery D-2006-28-1. An application for approval of an existing surface water withdrawal project to supply up to 414 mg/30 days (~13.8 mgd) of water to the applicant's petroleum refinery from an existing surface water intake. The project is located in the Delaware Watershed in Greenwich Township, Gloucester County, New Jersey, in New Jersey Critical Water Supply Area 2.

15. Rock Tenn Company D-2006-41-1. An application for approval of the Rock Tenn Company's existing non-contact cooling water (NCCW) and IWTP discharge from the company's Stroudsburg paper mill. The combined discharge of 0.295 mgd of NCCW and IWTP effluent will continue to be discharged to the Brodhead Creek. The Brodhead Creek is tributary to the Middle Delaware Special Protection Waters. The facility is located in Delaware Water Gap Borough, Monroe County, Pennsylvania.

16. Skyview Golf Course, Inc. D-2007-19-1. An application for approval of a ground and surface water withdrawal project to supply less than 3.1 mg/30 days of water to the applicant's golf course irrigation system from new Wells Nos. 2 and 11 and Intake No. 1 and to limit the withdrawal from all sources to less than 3.1 mg/30 days. The project is located in the Hypersthere-Quartz-Oligoclase Gneiss Formation in the Paulins Kill Watershed in Sparta Township, Sussex County, New Jersey, within the drainage area to the section of the non-tidal Delaware River known as the Upper Delaware, which is designated as Special Protection Waters.

17. City of Easton D-2007-31 CP-1. An application for the approval of the existing Easton water treatment plant's (WTP) 0.75 mgd backwash discharge. The WTP discharges filter backwash and sludge filter press filtrate to the section of the Delaware River known as the Lower Delaware Special Protection Waters. The facility is located in the City of Easton, Northampton County, Pennsylvania.

18. Empire Golf Management d/b/a Pine Hill Golf Club D-2007-33-1. An application for approval of a ground and surface water withdrawal project to supply up to 12 mg/30 days of water to the applicant's golf course irrigation system from new Wells TW1, PW1, PW2, PW5B and PW6B and a pond intake. The project is located in the Kirkwood-Cohansey Formation in the Big Timber Creek Watershed in Pine Hill Borough, Camden County, New Jersey.

19. East Stroudsburg Borough D-2007-39 CP-1. An application for approval of the existing East Stroudsburg Borough Water Filtration Plant's (WFP) 0.09 mgd backwash discharge. The East Stroudsburg WFP discharges filter backwash to Sambo Creek, as do the plant's sludge decanting basins. Sambo Creek is a tributary to the Brodhead Creek, which is a tributary to the section of the non-tidal Delaware River known as the Middle Delaware, which is designated as Special Protection Waters. The facility is located in Smithfield Township, Monroe County, Pennsylvania.

20. Laurel Pipe Line Company D-2007-40-1. An application for the approval of the existing Laurel Pipe Line Company's groundwater remediation discharge of 0.070 mgd. The applicant's groundwater remediation system will continue to discharge to an unnamed tributary of Green Creek, a tributary of Chester Creek. The facility is located in Bethel Township, Delaware County, Pennsylvania.

21. East Brandywine Township Municipal Authority D-2007-43 CP-1. An application for the approval of the construction of the new 61,400 gpd Hillendale WWTP and the associated pump stations, collection system, and drip irrigation disposal facility. The Hillendale WWTP will serve the 140 acre Pine Hill Subdivision. The WWTP will discharge treated effluent to approximately 9.3 acres of spray irrigation fields. The subdivision and associated facilities are located adjacent to the East Branch Brandywine Creek. The facilities will be located in East Brandywine Township, Chester County, Pennsylvania.

22. Tidewater Utilities, Inc. D-2008-3 CP-1. An application for approval of a ground water withdrawal project to supply up to 5.7 mg/30 days of water to the applicant's Chimney Hill/Hillside/Woodbury district public water supply distribution system from new Wells Nos. 159102, 190503 and 209110. The project is located in the Frederica and Federalsburg formations in the Murderkill River Watershed in Kent County, Delaware.

23. Warwick Township D-2008-4 CP-1. An application for the approval of the construction of the new 63,050 gpd St. Peters Village WWTP and the associated pump station and 12.67 acre spray irrigation disposal facility. The St. Peters Village WWTP will serve existing and proposed development within the St. Peters Village and Knauertown areas. The WWTP will discharge treated effluent to approximately 12.67 acres of spray irrigation fields. The treatment facilities are located adjacent to French Creek. The facilities will be located near Knauertown, in Warwick Township, Chester County, Pennsylvania.

24. Pleasant Valley School District D-2008-5 CP-1. An application for the approval of the expansion of the Pleasant Valley School District (PVSD) Brodheadsville Campus WWTP and spray irrigation system. The PVSD WWTP will be expanded from 10,200 gpd to 30,000 gpd and the spray irrigation system will have two new storage lagoons (Nos. 3 and 4) and 7 new spray fields equal to a combined area of approximately 16 acres. The PVSD Brodheadsville WWTP will be expanded to serve the Middle School, High School, J.C. Mills School, Chestnuthill Elementary School and Bus Transportation Facility. Previously, the High School and Chestnuthill Elementary School discharged to their own individual on-lot septic systems, and the J.C. Mills School had its own WWTP. The treatment facilities are located adjacent to an unnamed tributary to Weir Creek, a tributary to the Pohopoco Creek, which is a tributary to the Lehigh River. The facilities are located near Brodheadsville, in Chestnuthill Township, Monroe County, Pennsylvania.

25. Morrisville Borough Municipal Authority D-2008-6 CP-1. An application for approval of the existing Morrisville Borough Municipal Authority's Water Filtration Plant backwash discharge. The 150,000 gpd backwash discharge is to the portion of the non-tidal Delaware River known as the Lower Delaware, which is designated as Special Protection Waters. The facilities are located in Morrisville Borough, Bucks County, Pennsylvania.

26. Keystone Mobile Home Park D-2008-7-1. An application for approval of the reconstruction of the Keystone Mobile Home Park (KMHP) WWTP. The KMHP WWTP will continue to discharge 40,000 gpd to the Lehigh River, which is a tributary to the section of the non-tidal Delaware River known as the Lower Delaware, which is designated as Special Protection Waters. The KMHP WWTP is located near Laurys Station, North Whitehall Township, Lehigh County, Pennsylvania.

27. Green Walk Trout Hatchery, Inc. D-2008-8-1. An application for approval of a ground water withdrawal project to supply up to 13.824 mg/30 days of water to the applicant's trout hatchery facility from Wells Nos. 1 and 2. Although not previously approved by the Commission, this project has been in operation since 1971. The project is located in the Martinsburg Formation in the Jacoby Creek Watershed in Upper Mount Bethel Township, Northampton County, Pennsylvania, within the drainage area to the section of the non-tidal Delaware River known as the Lower Delaware, which is designated as Special Protection Waters.

28. Joseph Wick Nurseries, Ltd. D-2008-10-1. An application for approval of a ground water withdrawal project to supply up to 11.6 mg/30 days of water to the applicant's nursery from new Wells Nos. 1 and 2. The project is located in the Federalsburg Formation in the St. Jones River Watershed in the City of Dover, Kent County, Delaware.

29. Evergreen Community Power D-2008-11-1. An application for approval of a ground water withdrawal project to supply up to 51.84 mg/30 days of water to the applicant's steam turbine power plant from new Wells Nos. PW2 and PW3. The project is located in the Cambrian Carbonate Formation in the Schuylkill River Watershed in the City of Reading, Berks County, Pennsylvania.

30. White Haven Borough D-2008-12 CP-1. An application for approval of a ground water withdrawal project to supply up to 4.189 mg/30 days of water to the applicant's bottled water operations from existing Wells Nos. 1 and 2. The project is located in the Mauch Chunk Formation in the Linesville Creek Watershed in Foster Township, Luzerne County, Pennsylvania, within the drainage area to the section of the non-tidal Delaware River known as the Lower Delaware, which is designated as Special Protection Waters.

At the conclusion of the hearing on Project Review applications the business meeting will adjourn for lunch. The meeting will resume at 1:30 p.m. with consideration of the draft Minutes from the March 12, 2008 business meeting, announcements of upcoming events, including meetings of Commission advisory committees; a hydrologic report; a report by the Executive Director; and a report by the Commission's General Counsel.

The Commission will then consider a series of resolutions, among which the following will include public hearings: a resolution approving the 2008-2013 Water Resources Program; a resolution to amend the composition of the Monitoring Advisory Committee by the addition of a representative from the Partnership for the Delaware Estuary; a resolution authorizing the executive director to enter into contracts for the analysis of ambient water samples to characterize the nature and extent of chronic toxicity in the Delaware Estuary; a resolution authorizing the executive director to accept funds from the Pennsylvania Department of Environmental Protection for development of an integrated Water Resources Program for the Schuylkill River Watershed; a resolution authorizing the executive director to accept funds from NOAA-NWS for flood warning improvements and flood warning outreach initiatives recommended by the Interstate Flood Mitigation Task Force Report of July 2007; and a resolution providing for election of the Commission Chair, Vice Chair and Second Vice Chair for the year 2008-2009, commencing July 1, 2008.

The business meeting also will include consideration of a resolution amending the Water Quality Regulations and Comprehensive Plan to permanently designate the Lower Delaware River as a Special Protection Water and clarify certain aspects of the rule. A public hearing on this item was conducted on December 4, 2007 and the comment period closed on December 6, 2007.

Draft dockets scheduled for public hearing on May 14, 2008 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: April 21, 2008.
Pamela M. Bush,
Commission Secretary.

[FR Doc. E8-9112 Filed 4-24-08; 8:45 am]

BILLING CODE 6360-01-P